NATIONAL LABOR RELATIONS BOARD

Notice of Meeting; Sunshine Act

Agency: National Labor Relations Board.

Time and Date: Wednesday, February 5, 2003. Immediately following a 2 p.m. scheduled Board Agenda.

Place: Board Conference Room, Eleventh Floor, 1099 Fourteenth St., NW., Washington, DC 20570.

Status: Closed to public observation pursuant to 5 U.S.C. Section 552b(c)(2) (internal personnel rules and practices); and (9)(B) (disclosure would significantly frustrate implementation of a proposed Agency action * * *).

Matters to be Considered: Internal Administrative Matters.

CONTACT PERSON FOR MORE INFORMATION: Lester A. Heltzer, Acting Executive Secretary, Washington, DC 20570, Telephone: (202) 273-1067.

Dated: Washington, DC, February 6, 2003.
By direction of the Board:
Lester A. Heltzer,
Acting Executive Secretary.

[FR Doc. 03-3813 Filed 2-12-03; 10:19 am]

BILLING CODE 7545-01-M